DEPARTMENT OF TRANSPORTATION

Federal Aviation Administration

14 CFR Part 39

[Docket No. FAA-2005-20730; Directorate Identifier 2004-NM-68-AD]

RIN 2120-AA64

Airworthiness Directives; Bombardier Model DHC-8-101, -102, -103, -106, -201, -202, -301, -311, and -315 Airplanes

AGENCY: Federal Aviation Administration (FAA), Department of Transportation (DOT).

ACTION: Notice of proposed rulemaking (NPRM).

SUMMARY: The FAA proposes to supersede an existing airworthiness directive (AD) that applies to all Bombardier Model DHC-8-101, -102, -103, -106, -201, -202, -301, -311, and -315 airplanes. The existing AD currently requires installation of a placard on the instrument panel of the cockpit to advise the flightcrew that positioning of the power levers below the flight idle stop during flight is prohibited. Additionally, the existing AD requires eventual installation of an FAA-approved system that would prevent such positioning of the power levers during flight. Installation of that system terminates the requirement for installation of a placard. This proposed AD would require operators who have incorporated a certain Bombardier service bulletin to perform repetitive operational checks of the beta lockout system and to revise the Airworthiness Limitations document. This proposed AD is prompted by in-service issues reported by operators who incorporated Bombardier Service Bulletin 8-76-24 as an alternative method of compliance to the existing AD. We are proposing this AD to prevent the inadvertent activation of ground beta mode during flight, which could lead to engine overspeed, engine damage or failure, and consequent reduced controllability of the airplane.

DATES: We must receive comments on this proposed AD by April 29, 2005.

ADDRESSES: Use one of the following addresses to submit comments on this proposed AD.

• DOT Docket Web Site: Go to http://dms.dot.gov and follow the instructions for sending your comments electronically.

• Government-wide Rulemaking Web Site: Go to http://www.regulations.gov and follow the instructions for sending your comments electronically.

• Mail: Docket Management Facility; U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this proposed AD, contact Bombardier, Inc., Bombardier Regional Aircraft Division, 123 Garratt Boulevard, Downsview, Ontario M3K 1Y5, Canada.

You can examine the contents of this AD docket on the Internet at http://dms.dot.gov, or at the Docket Management Facility, U.S. Department of Transportation, 400 Seventh Street SW., room PL-401, on the plaza level of the Nassif Building, Washington, DC. This docket number is FAA-2005-20730; the directorate identifier for this docket is 2004-NM-68-AD.

FOR FURTHER INFORMATION CONTACT: Richard Fiesel, Aerospace Engineer, Airframe and Propulsion Branch, ANE-171, Federal Aviation Administration, New York Aircraft Certification Office, 1600 Stewart Avenue, Suite 410, Westbury, New York 11590; telephone (516) 228-7304; fax (516) 794-5531.

Comments Invited

We invite you to submit any relevant written data, views, or arguments regarding this proposed AD. Send your comments to an address listed under ADDRESSES. Include “Docket No. FAA-2005-20730; Directorate Identifier 2004-NM-68-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

On January 20, 2000, we issued AD 2000-02-13, amendment 39-11531 (65 FR 4095, January 26, 2000), for all Bombardier Model DHC-8-101, -102, -103, -106, -201, -202, -301, -311, and -315 airplanes. That AD requires installation of a placard on the instrument panel of the cockpit to advise the flightcrew that positioning of the power levers below the flight idle stop during flight is prohibited. Additionally, that AD requires eventual installation of a system that will prevent such positioning of the power levers during flight. Installation of that system terminates the requirement for installation of a placard. That AD was prompted by reports of operation of the airplane with the power levers positioned below the flight idle stop during flight. The actions specified by that AD are intended to prevent such positioning of the power levers below the flight idle stop during flight, which could cause engine overspeed, possible engine damage or failure, and consequent reduced controllability of the airplane.

Actions Since Existing AD Was Issued

Since we issued AD 2000-02-13, Bombardier has reevaluated Service Bulletin 8-76-24, which was provided as part of the alternative method of compliance (AMOC) to AD 2000-02-13. As a result of this reevaluation, Bombardier issued an Airworthiness Limitation (AWL), outlined in Bombardier Q100/200/300 All Operator Message 759, dated February 9, 2004, that applies to Bombardier Model DHC-8-101, -102, -103, -106, -201, -202, -301, -311, and -315 airplanes with a beta lockout system installed. The new AWL introduces de Havilland, Inc., Dash 8 Maintenance Task Card 6120-10, dated November 21, 2003 (for series 100, 200, and 300 airplanes).

Relevant Service Information

Bombardier has issued temporary revisions (TRs) to the applicable Bombardier DHC-8 Program Support Manual (PSM), as listed in the following TR table. The TRs specify that de Havilland, Inc., Dash 8 Maintenance Task Card 6120/10, operational check of beta lockout ground logic, dated November 21, 2003, be done at repetitive intervals not to exceed 500 flight hours for series 100, 200, and 300 airplanes, as listed in the following Task Card table.

Table—TRs
DHC-8 Model | TR Number | Date | PSM
-101, -102, -103, and -106 airplanes | AWL-86 | March 17, 2003 | 1-8-7
-201 and -202 airplanes | AWL 2-26 | March 17, 2003 | 1-82-7
-301, -311, and -315 airplanes | AWL 3-93 | March 17, 2003 | 1-83-7

Table—Task Cards
DHC-8 Model | de Havilland, Inc., Task Card | Date
-101, -102, -103, and 106 airplanes | Dash 8 Series 100 Maintenance Task Card 6120/10 | November 21, 2003.
-201 and -202 airplanes | Dash 8 Series 200 Maintenance Task Card 6120/10 | November 21, 2003.
-301, -311, and -315 airplanes | Dash 8 Series 300 Maintenance Task Card 6120/10 | November 21, 2003.

FAA's Determination and Requirements of the Proposed AD

These airplane models are manufactured in Canada and are type certificated for operation in the United States under the provisions of § 21.29 of the Federal Aviation Regulations (14 CFR 21.29) and the applicable bilateral airworthiness agreement. We have reviewed all available information and determined that AD action is necessary for airplanes of this type design that are certificated for operation in the United States.

Therefore, we are proposing this AD, which would supersede AD 2000-02-13, to continue to require installation of a placard on the instrument panel of the cockpit to advise the flightcrew that positioning of the power levers below the flight idle stop during flight is prohibited. Additionally, this proposed AD continues to require eventual installation of an FAA-approved system that would prevent such positioning of the power levers during flight. This proposed AD would also require operators to perform initial and repetitive operational checks of the beta lockout system and to revise the Airworthiness Limitations document.

Transport Canada, which is the airworthiness authority for Canada, has been advised of the actions proposed by this airworthiness directive and is in agreement with the proposed actions.

Explanation of Action Taken by the FAA

The manufacturer has revised the Airworthiness Limitations document to include new operational checks of the beta lockout system. The TCCA has not issued a corresponding airworthiness directive, although accomplishment of the operational checks contained in the document described previously may be considered mandatory for operators of these aircraft in Canada.

This proposed AD, however, would require revising the applicable Airworthiness Limitations document to require the operational checks. To require compliance with those actions, we must issue an airworthiness directive.

Change to Existing AD

This proposed AD would retain all requirements of AD 2000-02-13 and add additional requirements. Since AD 2000-02-13 was issued, the AD format has been revised, and certain paragraphs have been rearranged. As a result, the corresponding paragraph identifiers have changed in this proposed AD, as listed in the following table:

Revised Paragraph Identifiers
Requirement in AD 2000-02-13 | Corresponding requirement in this proposed AD
Paragraph (a) | Paragraph (f).
Paragraph (b) | Paragraph (g).
Paragraph (c) | Paragraph (h).

We have also revised the applicability of the existing AD to identify model designations as published in the most recent type certificate data sheet for the affected models.

Costs of Compliance

This proposed AD would affect about 185 Bombardier Model DHC-8-101, -102, -103, -106, -201, -202, -301, -311, and -315 airplanes of U.S. registry.

The installation of a placard that is required by AD 2000-02-13, and retained in this proposed AD, requires about 1 work hour per airplane, at an average labor rate of $65 per work hour. No parts are required. Based on these figures, the cost impact of the placard installation on U.S. operators is estimated to be $12,025, or $65 per airplane.

The installation of the preventative system that is required by AD 2000-02-13, and retained in this proposed AD, requires about 123 work hours per airplane, at an average labor rate of $65 per work hour. We estimate that required parts would cost approximately $12,000 per airplane. Based on these figures, the cost impact of the installation of the preventative system on U.S. operators is estimated to be $3,699,075, or $19,995 per airplane.

The proposed operational check of the beta lockout system would take about 1 work hour per airplane, per check cycle, at an average labor rate of $65 per work hour. No parts are required. Based on these figures, the estimated cost of the new operational check specified in this proposed AD for U.S. operators is $12,025, or $65 per airplane, per check cycle.

The proposed revision of the Airworthiness Limitations document would take about 1 work hour per airplane, at an average labor rate $65 per work hour. Based on these figures, the estimated cost of the revision specified in the proposed AD for U.S. operators is $12,025, or $65 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-11531 (65 FR 4095, January 26, 2000) and adding the following new airworthiness directive (AD):

Bombardier Inc. (Formerly de Havilland, Inc.): Docket No. FAA-2005-20730; Directorate Identifier 2004-NM-68-AD.

Comments Due Date

(a) The Federal Aviation Administration must receive comments on this AD action by April 29, 2005.

Affected ADs

(b) This AD supersedes AD 2000-02-13, amendment 39-11531 (65 FR 4095, January 26, 2000).

Applicability: (c) This AD applies to all Bombardier Model DHC-8-101, -102, -103, -106, -201, -202, -301, -311, and -315 airplanes; certificated in any category.

Note 1: This AD requires revisions to certain operator maintenance documents to include new inspections. Compliance with these inspections is required by 14 CFR 91.403(c). For airplanes that have been previously modified, altered or repaired in the areas addressed by these inspections, the operator may not be able to accomplish the inspections described in the revision. In this situation, to comply with 14 CFR 91.403 (c), the operator must request approval for an alternative method of compliance in accordance with paragraph (l)(1) of this AD. The request should include a description of changes to the required inspections that will ensure the continued damage tolerance of the affected structure. The FAA has provided guidance for this determination in Advisory Circular (AC) 25-1529.

Unsafe Condition

(d) This AD was prompted by in-service issues reported by operators who incorporated a certain Bombardier service bulletin as an alternative method of compliance to AD 2000-02-13. We are issuing this AD to prevent the inadvertent activation of ground beta mode during flight, which could lead to engine overspeed, engine damage or failure, and consequent reduced controllability of the airplane.

Compliance: (e) You are responsible for having the actions required by this AD performed within the compliance times specified, unless the actions have already been done.

Requirements of AD 2000-02-13

Installation of Placard

(f) Within 30 days after March 1, 2000 (the effective date of AD 2000-02-13), install a placard in a prominent location on the instrument panel of the cockpit that states:

“Positioning of the power levers below the flight idle stop during flight is prohibited. Such positioning may lead to loss of airplane control, or may result in an engine overspeed condition and consequent loss of engine power.”

Installation of System Preventing Excessive Lowering of Power Levers in Flight

(g) Within 2 years after March 1, 2000, install a system that would prevent positioning the power levers below the flight idle stop during flight, in accordance with a method approved by the Manager, New York Aircraft Certification Office (ACO), FAA. Following accomplishment of that installation, the placard required by paragraph (f) of this AD may be removed.

(h) In the event that the system required by paragraph (g) of this AD malfunctions, or if the use of an override (if installed) is necessary, the airplane may be operated for three days to a location where required maintenance/repair can be performed, provided the system required by paragraph (g) of this AD has been properly deactivated and placarded for flightcrew awareness, in accordance with the FAA-approved Master Minimum Equipment List (MMEL).

New Requirements

Operational Checks of the Beta Lockout System

(i) For airplanes that have been modified in accordance with Bombardier Service Bulletin 8-76-24: Within 50 flight hours after the effective date of this AD, perform an operational check of the beta lockout system in accordance with the applicable de Havilland, Inc., Dash 8 task card listed in Table 1 of this AD. Thereafter repeat the operational check at intervals specified in the applicable de Havilland, Inc., temporary revision (TR) listed in Table 2 of this AD.

Table 1.—Task Cards
DHC-8 Model | de Havilland, Inc., task card | Date
-101, -102, -103, and -106 airplanes | Dash 8 Series 100 Maintenance Task Card 6120/10 | November 21, 2003.
-201 and -202 airplanes | Dash 8 Series 200 Maintenance Task Card 6120/10 | November 21, 2003.
-301, -311, and -315 airplanes | Dash 8 Series 300 Maintenance Task Card 6120/10 | November 21, 2003.

Revision of Airworthiness Limitations (AWL) Section

(j) Within 30 days after the effective date of this AD, revise the AWL section of the applicable Instructions for Continued Airworthiness by incorporating the contents of the applicable de Havilland, Inc., TR listed in Table 2 of this AD into the AWL section of the applicable Bombardier DHC-8 Maintenance Program Support Manual (PSM).

Table 2.—TRs
DHC-8 Model | de Havilland, Inc., TR | Dated | For PSM
-101, -102, -103, and -106 airplanes | AWL-86 | March 17, 2003 | 1-8-7
-201 and -202 airplanes | AWL 2-26 | March 17, 2003 | 1-82-7
-301, -311, and -315 airplanes | AWL 3-93 | March 17, 2003 | 1-83-7

(k) When the information in the applicable de Havilland, Inc., TR identified in Table 2 of this AD has been included in the general revisions of the applicable PSM identified in Table 2 of this AD, the general revisions may be inserted in the PSM, and the applicable TR may be removed from the AWL section of the Instruction for Continued Airworthiness.

Alternative Methods of Compliance (AMOCs)

(l)(1) The Manager, New York ACO has the authority to approve AMOCs for this AD, if requested in accordance with the procedures found in 14 CFR 39.19.

(2) AMOCS approved previously in accordance with AD 2000-02-13 are acceptable for the corresponding requirements of this AD.

Related Information

(m) None.

Issued in Renton, Washington, on March 17, 2005.
Jeffery E. Duven,
Acting Manager, Transport Airplane Directorate, Aircraft Certification Service.

[FR Doc. 05-6241 Filed 3-29-05; 8:45 am]

BILLING CODE 4910-13-P